DEPARTMENT OF TRANSPORTATION

Federal Aviation Administration

[Docket No. FAA-2021-0466]

Agency Information Collection Activities: Requests for Comments; Clearance of a New Approval of Information Collection: Federal Aviation Administration Unmanned Aircraft Systems Support Center Case Management System

AGENCY: Federal Aviation Administration (FAA), DOT.

ACTION: Notice and request for comments.

SUMMARY: In accordance with the Paperwork Reduction Act of 1995, FAA invites public comments about our intention to request the Office of Management and Budget (OMB) approval for a new information collection. The Federal Aviation Administration (FAA) Unmanned Aircraft Systems (UAS) Support Center Case Management System (CMS) is being created to help streamline how stakeholders' questions are answered in a timely manner. Specifically, the Contact Customer Support form allows the public and other stakeholders to ask the FAA questions, as well as get the appropriate answer or information they need to operate their UAS or drone safely. The UAS Support Center has a publicly available form to submit inquiries. This form would be replacing the current web form to be used within the Salesforce solutions that allows UAS Integration Office additional technology to more efficient and streamline the UAS Support center business process. This form would allow the UAS Integration Office to collect the appropriate information about the stakeholder's name, preferred method of communications email address, phone number, zip code, type of flyer that would allow the Support Center Analysts to answer the customer's specific question more efficiently.

DATES: Written comments should be submitted by August 25, 2022.

ADDRESSES: Please send written comments:

By Electronic Docket: www.regulations.gov (Enter docket number into search field).

By mail: Mark Hyatt, 490 L'Enfant Plaza, Suite 2206, Washington, DC 20024.

By fax: 202-267-8249.

FOR FURTHER INFORMATION CONTACT: Mark Hyatt by email at: mark.hyatt@faa.gov; phone: 202-267-3676.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Federal Aviation Administration (FAA) Unmanned Aircraft Systems (UAS) Support Center Case Management System (CMS).

Form Numbers: Customer Inquiry form; Customer Inquiry Status Check Form.

Type of Review: New Information Collection.

Background: The Federal Register Notice with a 60-day comment period soliciting comments on the following collection of information was published on June 7, 2021 (Document Citation: 86 FR 30368).

The Federal Aviation Administration (FAA) Unmanned Aircraft Systems (UAS) Support Center Case Management System (CMS) will streamline how respondents' questions will be answered. Specifically, the UAS Support Center CMS Customer Inquiry form allows the public and other stakeholders to ask the FAA questions, as well as get the appropriate answer/information that is needed to operate their UAS or drone safely.

The UAS Support Center will have a publicly available form to submit inquiries. This form will allow the UAS Support Center to collect the appropriate information about the respondent's name (i.e., first and last), preferred method of communications (i.e., email or phone), email address, phone number, zip code (if needed), self-identification of type of flyer (i.e., recreational, commercial/business, public safety, local government, educational/research, Eyewitness Report, I don't know, and other), the subject of the inquiry, and inquiry/question). This information will allow the UAS Support Center Analysts more information to efficiently answer the respondent's specific question.

The respondents public form process starts with submitting an inquiry by using the public webform, shared email inbox, or by calling the UAS Support Center Analysts. Once the public user submits an inquiry, they will receive an automated system email receipt that includes inquiry reference number, created date, “tell us about yourself,” subject, and their inquiry/question. The public users can also use the inquiry status public page to check their inquiry status. For a public user to check the status of an inquiry, the system requires the user to have and enter the reference number and email address that is used to when creating the inquiry. Once the system confirms that the email address and reference number match with the inquiry record that's currently in the system, it will display inquiry status and created date of the inquiry.

The FAA received comments to the 60-day Federal Register Notice from the Small UAV Coalition, MAC Law, and one individual.

• The FAA considered all comments equally.

• The FAA agrees with the request for the system to send a confirmation email with the confirmation tracking code to track the status of the inquiry, similar to the www.regulations.gov website. This functionality is built into the system and will not allow for members of the public to view the status of another stakeholder's inquiry.

• The Case Management System collects appropriate information about the stakeholder's name, preferred method of communication, phone number, zip code, and type of flyer to facilitate quick resolution of stakeholder inquiries. It will provide a historical record of an individual's inquiries for the UAS Support Center to reference.

• The FAA references the support center on FAA.gov/uas, UAS events, community partnerships and social media.

• The FAA provides the opportunity for a stakeholder to contact the FAA UAS Support Center by phone and/or email.The FAA commits to protecting personally identifiable information (PII) in response to a Freedom of Information Act request, under 5 U.S.C. 552(b)(6). In response, a text-based warning to avoid including PII will be included on the inquiry page to prevent unnecessary collection of this information.

Respondents: Anyone may use the publicly available form to submit an inquiry. The respondent may submit any number of inquiries.

Frequency: N/A.

Estimated Average Burden per Response: Less than two minutes for a typical inquiry.

Estimated Total Annual Burden: The majority of respondents submit a one- time inquiry. The annual burden per respondent per inquiry is two minutes. Estimate around 22,000 inquiries per year equating to 44,000 minutes of total burden to the public per year.

Issued in Washington, DC.
Danielle Corbett,
Manager, UAS Integration Office, Program and Data Management, AUS-410.

[FR Doc. 2022-15894 Filed 7-25-22; 8:45 am]

BILLING CODE 4910-13-P